DEPARTMENT OF ENERGY

Federal Energy Regulatory Commission

Combined Notice of Filings No. 2

September 16, 2010.

Take notice that the Commission has received the following Natural Gas Pipeline Rate and Refund Report filings:

Docket Numbers: RP10-1258-001.

Applicants: Central New York Oil and Gas Co., LLC.

Description: Central New York Oil and Gas Company, LLC submits their compliance filing to incorporate in the FERC Gas Tariff 1.9 of the Wholesale Gas Quadrant etc.

Filed Date: 09/03/2010.

Accession Number: 20100907-0203.

Comment Date: 5 p.m. Eastern Time on Monday, September 20, 2010.

Docket Numbers: RP10-1260-001.

Applicants: Arlington Storage Company, LLC.

Description: Arlington Storage Company, LLC submits adoption of NASEB Version 1.9 compliance filing pursuant to Order 587-U.

Filed Date: 09/03/2010.

Accession Number: 20100907-0202.

Comment Date: 5 p.m. Eastern Time on Monday, September 20, 2010.

Docket Numbers: RP10-1261-001.

Applicants: Steuben Gas Storage Company.

Description: Steuben Gas Storage Company, LLC submits adoption of NASEB Version 1.9 compliance filing pursuant to Order 587-U.

Filed Date: 09/03/2010.

Accession Number: 20100907-0204.

Comment Date: 5 p.m. Eastern Time on Monday, September 20, 2010.

Docket Numbers: RP10-1267-001.

Applicants: Energy West Development, Inc.

Description: Energy West Development, Inc. submits letter requesting to withdraw Original Sheet 29 et al and request to be replaced with a Second Revised Sheet 29A et al effective 11/1/10.

Filed Date: 09/03/2010.

Accession Number: 20100907-0201.

Comment Date: 5 p.m. Eastern Time on Monday, September 20, 2010.

Docket Numbers: RP10-991-001.

Applicants: Great Lakes Gas Transmission Limited Par.

Description: Great Lakes Gas Transmission Limited Partnership submits tariff filing per 154.203: Compliance to RP10-991 to be effective 6/29/2010.

Filed Date: 09/07/2010.

Accession Number: 20100907-5154.

Comment Date: 5 p.m. Eastern Time on Monday, September 20, 2010.

Docket Numbers: RP10-1010-001.

Applicants: Transcontinental Gas Pipe Line Company, LLC.

Description: Transcontinental Gas Pipe Line Company, LLC submits tariff filing per 154.203: Holcim Reexecuted Negotiated Rate Agreement Filing to be effective 8/1/2010.

Filed Date: 09/15/2010.

Accession Number: 20100915-5202.

Comment Date: 5 p.m. Eastern Time on Monday, September 27, 2010.

Docket Numbers: RP10-1119-001.

Applicants: National Fuel Gas Supply Corporation.

Description: National Fuel Gas Supply Corporation submits tariff filing per 154.203: National Fuel Baseline Correction to be effective 8/30/2010.

Filed Date: 09/15/2010.

Accession Number: 20100915-5072.

Comment Date: 5 p.m. Eastern Time on Monday, September 27, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-23622 Filed 9-21-10; 8:45 am]

BILLING CODE 6717-01-P